DEPARTMENT OF COMMERCE

Foreign-Trade Zones Board

[B-43-2020]

Foreign-Trade Zone (FTZ) 61—San Juan, Puerto Rico; Authorization of Limited Production Activity; HP International Trading B.V. (Puerto Rico Branch), LLC (Inkjet Ink and 3D Printing Fluids (Bulk and Cartridges) and Related Subassemblies), Aguadilla, Puerto Rico

On June 24, 2020, HP International Trading B.V. (Puerto Rico Branch), LLC submitted a notification of proposed production activity to the FTZ Board for its facility within Subzone 61V, in Aguadilla, Puerto Rico.

The notification was processed in accordance with the regulations of the FTZ Board (15 CFR part 400), including notice in the Federal Register inviting public comment (85 FR 44275-44276, July 22, 2020). On October 22, 2020, the applicant was notified of the FTZ Board's decision that further review of part of the proposed activity is warranted. The FTZ Board authorized the production activity described in the notification on a limited basis, subject to the FTZ Act and the Board's regulations, including Section 400.14, and further subject to a restriction requiring admission of the following components in privileged foreign status (19 CFR 146.41): Pigment green 7; pigment blue 15, 15:1, 15:2, 15:3, 15:4, 15:6; pigment orange 43; and, magenta pigment (pigment red 122/pigment violet 19).

Dated: October 22, 2020.
Andrew McGilvray,
Executive Secretary.

[FR Doc. 2020-23745 Filed 10-26-20; 8:45 am]

BILLING CODE 3510-DS-P